DEPARTMENT OF THE INTERIOR

Bureau of Reclamation

Draft Report Assessing Rural Water Activities and Related Programs

AGENCY: Bureau of Reclamation, Interior.

ACTION: Notice of availability.

SUMMARY: The draft Rural Water Assessment Report reviews the status of the Bureau of Reclamation's rural potable water projects and its plan for completing projects authorized before enactment of the Rural Water Supply Act and including a description of the proposed prioritization criteria as an appendix. It also describes Federal Programs supporting development and management of water supplies in rural communities in the 17 western states and describes Reclamation's plans to coordinate the Rural Water Supply Program with similar programs managed by other agencies.

DATES: Submit written comments by August 14, 2012.

ADDRESSES: Submit written comments to James Hess, Bureau of Reclamation, 1849 C Street NW., MC: 96-42000, Washington, DC 20240; or by email to jhess@usbr.gov. The draft report is available for public review at www.usbr.gov/ruralwater.

FOR FURTHER INFORMATION CONTACT: James Hess at (202) 513-0543 about the report or Christopher Perry at (303) 445-2887 about the prioritization criteria.

SUPPLEMENTARY INFORMATION: We, the Bureau of Reclamation, are seeking public comment on a draft Rural Water Assessment Report prepared as required by the Rural Water Supply Act of 2006. This section provides background on the reasons for the report and describes its contents.

For over a century, Reclamation has designed and constructed some of the largest and most important water supply projects in the Western United States including Hoover Dam, Grand Coulee Dam, and the Central Valley Project. Because of Reclamation's expertise in water resources management, rural communities have sought our advice and assistance in addressing their need for potable water supplies. However, since Reclamation did not have legal authority to provide this assistance, many rural communities developed potable water supply projects without the benefit of our expertise and went directly to Congress to get their projects authorized for Reclamation's involvement—often after the project plan was developed. As a result, since 1980, Congress has authorized Reclamation to design and build projects to deliver potable water supplies to specific rural communities located primarily in North Dakota, South Dakota, Montana and New Mexico. In addition, Congress specifically authorized Reclamation's involvement in the Lewis and Clark Rural Water Supply Project located in the Reclamation State of South Dakota, but also in the non-Reclamation States of Iowa and Minnesota.

To get Reclamation involved earlier in the process, Congress passed the Reclamation Rural Water Supply Act in 2006 which authorized the Secretary of the Interior to establish and carry out a rural water supply program in the 17 western states.

The Act also requires the Secretary of the Interior to develop an assessment of rural potable water supply projects and programs in the Western United States. As part of that requirement, the Act requires the Secretary of the Interior to develop this assessment in consultation with the Secretaries of Agriculture, Housing and Urban Development, and the Army; the Administrator of the Environmental Protection Agency; and the Director of the Indian Health Service. The assessment must include the following:

(1) The status of all rural water supply projects under the jurisdiction of the Secretary that are authorized for design and construction, but not completed;

(2) The current plan for the completion of the authorized rural water projects identified above;

(3) The demand for new rural water supply projects;

(4) The rural water programs within other agencies;

(5) The extent of the demand that can be met by the Reclamation Rural Water Supply Program; and

(6) How the Program will complement and coordinate with other Federal rural water supply programs to minimize overlap and leverage and maximize the benefits achieved with the resources of each.

Public Disclosure

Before including your address, phone number, email address, or other personal identifying information in your comment, please be aware that your entire comment—including your personal identifying information—may be made publicly available at any time. While you can ask us in your comment to withhold your personal identifying information from public review, we cannot guarantee that we will be able to do so.

Authority

The Reclamation Rural Water Supply Act of December 22, 2006 (Pub. L. 109-451, Title I, 120 Stat. 3346, 43 U.S.C. 2401, et seq.).

David Murillo,
Deputy Commissioner, Operations.

[FR Doc. 2012-14715 Filed 6-14-12; 8:45 am]

BILLING CODE 4310-MN-P